ENVIRONMENTAL PROTECTION AGENCY

DEPARTMENT OF DEFENSE

Department of the Army, Corps of Engineers

EPA-HQ-OW-2011-0409; FRL-9428-4]

EPA and Army Corps of Engineers Guidance Regarding Identification of Waters Protected by the Clean Water Act

AGENCY: Environmental Protection Agency (EPA); and U.S. Army Corps of Engineers, Department of the Army, Department of Defense.

ACTION: Notice; extension of comment period.

SUMMARY: On May 2, 2011, the U.S. Environmental Protection Agency (EPA) and the U.S. Army Corps of Engineers (the Corps) announced availability of draft guidance (76 FR 24479) that describes how the agencies will identify waters protected by the Federal Water Pollution Control Act Amendments of 1972 (Clean Water Act or CWA or Act) and implement the Supreme Court's decisions on this topic (i.e., Solid Waste Agency of Northern Cook County v. U.S. Army Corps of Engineers (SWANCC) (531 U.S. 159 (2001)) and Rapanos v. United States (547 U.S. 715 (2006)) (Rapanos)). The comment period was originally set to expire on July 1, 2011, and the agencies are extending the public comment period by 30 days.

DATES: Public comments are due by July 31, 2011.

ADDRESSES: Submit your comments, identified by Docket ID No. EPA-HQ-OW-2011-0409 by one of the following methods:

• Federal eRulemaking Portal: http://www.regulations.gov. Follow the instructions for submitting comments.

• E-mail: ow-docket@epa.gov. Include EPA-HQ-OW-2011-0409 in the subject line of the message.

• Mail: Send the original and three copies of your comments to: Water Docket, Environmental Protection Agency, Mail Code 2822T, 1200 Pennsylvania Avenue, NW., Washington, DC 20460, Attention: Docket ID No. EPA-HQ-OW-2011-0409.

• Hand Delivery/Courier: Deliver your comments to EPA Docket Center, EPA West, Room 3334, 1301 Constitution Avenue, NW., Washington, DC 20460, Attention Docket ID No. EPA-HQ-OW-2011-0409. Such deliveries are accepted only during the Docket's normal hours of operation, which are 8:30 a.m. to 4:30 p.m., Monday through Friday, excluding legal holidays. Special arrangements should be made for deliveries of boxed information. The telephone number for the Water Docket is 202-566-2426.

Instructions: Direct your comments to Docket ID No. EPA-HQ-OW-2011-0409. EPA's policy is that all comments received will be included in the public docket without change and may be made available on-line at http://www.regulations.gov, including any personal information provided, unless the comment includes information claimed to be Confidential Business Information (CBI) or other information whose disclosure is restricted by statute. Do not submit information that you consider to be CBI, or otherwise protected, through http://www.regulations.gov or e-mail. The http://www.regulations.gov Web site is an “anonymous access” system, which means EPA will not know your identity or contact information unless you provide it in the body of your comment. If you send an e-mail directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA might not be able to consider your comment. Avoid the use of special characters and any form of encryption, and ensure that electronic files are free of any defects or viruses. For additional information about EPA's public docket, visit the EPA Docket Center homepage at http://www.epa.gov/epahome/dockets.htm.

Docket: All documents in the docket are listed in the http://www.regulations.gov index. Some information, however, is not publicly available, e.g., CBI or other information whose disclosure is restricted by statute. Certain other material, such as copyrighted material, is publicly available only in hard copy. Publicly available docket materials are available electronically at http://www.regulations.gov or in hard copy at the Water Docket, EPA Docket Center, EPA West, Room 3334, 1301 Constitution Ave., NW., Washington, DC. The Public Reading Room is open from 8:30 a.m. to 4:30 p.m., Monday through Friday, excluding legal holidays. The telephone number for the Public Reading Room is 202-566-1744, and the telephone number for the Water Docket is 202-566-2426.

FOR FURTHER INFORMATION CONTACT: Ms. Donna Downing, Office of Water (4502-T), Environmental Protection Agency, 1200 Pennsylvania Ave., NW., Washington DC 20460; telephone number 202-566-1783; email address: CWAwaters@epa.gov. Mr. David Olson, Regulatory Community of Practice (CECW-CO-R), U.S. Army Corps of Engineers, 441 G Street, NW., Washington, DC 20314; telephone number 202-761-4922; e-mail address: david.b.olson@usace.army.mil.

SUPPLEMENTARY INFORMATION: In the May 2, 2011, issue of the Federal Register (76 FR 24479), the U.S. Environmental Protection Agency and U.S. Army Corps of Engineers announced the availability of draft agency guidance, regarding Clean Water Act (CWA) jurisdiction following the U.S. Supreme Court's decisions in SWANCC and Rapanos. The agencies invited public comment for a 60-day period. Several entities have requested an extension of the comment period for the guidance. The EPA and the Corps find that a 30-day extension of the comment period is warranted. Therefore, the comment period is extended until July 31, 2011.

A copy of the draft guidance can be found on EPA's Web site at http://water.epa.gov/lawsregs/guidance/wetlands/CWAwaters.cfm and on the Corps' Web site at http://www.usace.army.mil/CECW/Pages/cwa_guide.aspx.

Dated: June 27, 2011.
Nancy K. Stoner,
Acting Assistant Administrator for Water, Environmental Protection Agency.
Dated: June 27, 2011.
Jo-Ellen Darcy,
Assistant Secretary of the Army for Civil Works, Department of the Army.

[FR Doc. 2011-16617 Filed 7-1-11; 8:45 am]

BILLING CODE 6560-50-P